ENVIRONMENTAL PROTECTION AGENCY

[FRL-7048-2]

Agency Information Collection Activities: Submission for OMB Review; Comment Request; NESHAP for Equipment Leaks (Fugitive Emission Sources)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP for Equipment Leaks (Fugitive Emission Sources), OMB Control Number 2060-0068, expiration date August 31, 2001. The ICR describes the nature of the information collection and its expected burden and cost; where appropriate, it includes the actual data collection instrument.

DATES: Comments must be submitted on or before Octber 9, 2001.

ADDRESSES: Send comments, referencing EPA ICR No. 1153.07 and OMB Control No. 2060-0068, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, N.W., Washington, DC 20503.

FOR FURTHER INFORMATION CONTACT: For a copy of the ICR, call Susan Auby at EPA, (202) 260-4901,or download off the Internet at http://www.epa.gov/icr/icr.htm and refer to EPA ICR No. 1153.07. For technical questions about the ICR, contact Rafel Sanchez at 202-564-7028.

SUPPLEMENTARY INFORMATION: Title: NESHAP for Equipment Leaks (Fugitive Emission Sources),OMB Control Number 2060-0068, EPA ICR Number 1153.07, expiring August 31,2001. This ICR is a revision of a currently approved collection.

Abstract: The National Emission Standards for Hazardous Air Pollutants (NESHAP) for Equipment Leaks (Fugitive Emission Sources) were proposed on January 5, 1981, and promulgated on June 6, 1984. These standards apply to fugitive emissions from equipment sources operating in volatile hazardous air pollutant (VHAP) service (containing or contacting fluids with at least 10% VHAP by weight). Affected facilities are those which own and/or operate pumps, compressors, pressure relief devices, sampling connection systems, open-ended valves or lines, valves, flanges and other connectors, product accumulator vessels, and control devices or systems in VHAP service. This information is being collected to assure compliance with 40 CFR part 61, subpart V.

EPA is taking action to have the requirements of this Information Collection Request, (40 CFR part 61, subpart V, OMB Control Number 2060-0068, EPA ICR Number 1153.07), authorized by OMB as an Information Collection option within the Information Collection Request for the Consolidated Federal Air Rule for the Synthetic Organic Chemical Manufacturing Industry, (OMB Control Number 2060-0443, EPA ICR Number 1854.02). When approved by OMB, the separate Information Collection Request requirements under OMB Control Number 2060-0068, EPA ICR Number 1153.07 will not be necessary.

Owners or operators of the affected facilities described must make one-time-only notifications including: notification of any physical or operational change to an existing facility which may increase the regulated pollutant emission rate, notification of the initial performance test, including information necessary to determine the conditions of the performance test, and performance test measurements and results. Owners or operators are also required to maintain records of the occurrence and duration of any startup, shutdown, or malfunction in the operation of an affected facility, or any period during which the monitoring system is inoperative. These notifications, reports and records are required, in general, of all sources subject to the NESHAPs.

Monitoring requirements specific to the Equipment Leaks (Fugitive Emission Sources) NESHAP provides information on leak detection. Owners or operators are also required to submit semiannual reports of the number of valves, pumps, and compressors for which leaks were detected, and explanations for any leak repair delays.

Any owner or operator subject to the provisions of this part shall maintain a file of these reports and retain the file for at least two years following the date of such records.

Approximately 75 sources are currently subject to the standard, and no new sources are expected in the next three years. However, approximately two modified, reconstructed, or new process units are expected per year. The number of affected sources is expected to decline during the next three years. Therefore, the number of affected sources by this standard will remain unchanged from the previous submittal.

All reports are sent to the delegated State or local authority. In the event that there is no such delegated authority, the reports are sent directly to the EPA Regional Office.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 01, 2001, (66 FR 8588) and no comments were received.

Burden Statement: The annual public reporting and recordkeeping burden for this collection of information is estimated to average 561 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operators of equipment sources operating in volatile hazardous air pollutant (VHAP) service.

Estimated Number of Respondents: 21.

Frequency of Response: Semi-annually.

Estimated Total Annual Hour Burden: 23,558.

Estimated Total Annualized Capital, O&M Cost Burden: $0.

Send comments on the Agency's need for this information, the accuracy of the provided burden estimates, and any suggested methods for minimizing respondent burden, including through the use of automated collection techniques to the following addresses. Please refer to EPA ICR No. 1153.07 and OMB Control No.2060-0068 in any correspondence.

Dated: August 24, 2001.
Oscar Morales,
Director, Collection Strategies Division.

[FR Doc. 01-22375 Filed 9-5-01; 8:45 am]

BILLING CODE 6560-50-P